Title 3—

The President

Proclamation 9833 of December 14, 2018

Wright Brothers Day, 2018

By the President of the United States of America

A Proclamation

On December 17, 1903, two American brothers from Dayton, Ohio, Orville and Wilbur Wright, launched the first manned, powered flight on a windy beach in Kitty Hawk, North Carolina. Their handcrafted biplane, though aloft a mere 12 seconds, ushered in the age of aviation and changed the course of history. On Wright Brothers Day, we commemorate this monumental achievement and look ahead to new chapters of American aviation in which new scientists, inventors, dreamers, and entrepreneurs will change history, fulfilling the human spirit's relentless quest for exploration and discovery.

In the 115 years since the Wright brothers achieved their groundbreaking flight, the United States has led the world in aviation innovation. We have developed supersonic jets, walked on the moon, placed increasingly advanced landers and rovers on Mars, and vaulted spacecraft into the far reaches of the universe to explore distant horizons. The aviation industry has transformed the way we live and communicate, strengthening our connections to other nations and continents, expanding the global marketplace, and extending the frontiers of imagination and experimentation. These revolutionary achievements trace their origins back to the triumphs of Orville and Wilbur, two daring pioneers who, fueled by passion, undeterred by years of failure, and empowered by legendary American intrepidity, took mankind to new heights.

We reflect with pride on the historic successes of our Nation's aviation visionaries, and we look ahead to a future of limitless potential and even greater accomplishment. My Administration is working to build on America's heritage as aviation pioneers and the world's greatest space-faring nation. I have instructed Federal agencies to embrace aeronautics and space industries of the future by modernizing our outdated regulations and funding aerospace research and development. We will broaden America's leadership in aerospace technology, including through the return of civil supersonic flight, the growth of commercial unmanned aircraft systems, and continued innovation in space exploration and travel. As we continue our pursuits in flight, we are indebted to the Wright brothers for hazarding to dream and inspiring our Nation to look heavenward.

The Congress, by a joint resolution approved December 17, 1963, as amended (77 Stat. 402; 36 U.S.C. 143), has designated December 17 of each year as “Wright Brothers Day” and has authorized and requested the President to issue annually a proclamation inviting the people of the United States to observe that day with appropriate ceremonies and activities.

NOW, THEREFORE, I, DONALD J. TRUMP, President of the United States of America, do hereby proclaim December 17, 2018, as Wright Brothers Day.

IN WITNESS WHEREOF, I have hereunto set my hand this fourteenth day of December, in the year of our Lord two thousand eighteen, and of the Independence of the United States of America the two hundred and forty-third.

[FR Doc. 2018-27624

Filed 12-18-18; 11:15 am]

Billing code 3295-F9-P